DEPARTMENT OF ENERGY

Federal Energy Regulatory Commission

[Docket No. CP07-100-000]

Northwest Pipeline Corporation; Notice of Request Under Blanket Authorization

March 14, 2007.

Take notice that on March 8, 2007, Northwest Pipeline Corporation (Northwest), 295 Chipeta Way, Salt Lake City, Utah 84158, filed in Docket No. CP07-100-000, a prior notice request pursuant to sections 157.205 and 157.208 of the Federal Energy Regulatory Commission's regulations under the Natural Gas Act for authorization of the Windy Creek pipeline replacement and lowering project on Northwest's Eugene to Grants Pass Lateral, located in Douglas County, Oregon, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Specifically, Northwest proposes to replace approximately 100 feet of existing 10-inch diameter pipeline with approximately 100 feet of new 10-inch diameter pipeline. Northwest states that the new pipeline segment will be installed at a lower depth in Northwest's existing right-of-way and the existing pipeline segment will be abandoned by removal. Northwest asserts that the section of the lateral has become partially exposed by erosion within the banks of Windy Creek, making a replacement necessary to maintain safety and integrity of the lateral. Northwest estimates the cost of the project to be approximately $300,000.

Any questions regarding the application should be directed to Gary K. Kotter, Manager, Certificates and Tariffs, Northwest Pipeline Corporation, P.O. Box 58900, Salt Lake City, Utah 84158-0900, or call at (801) 584-7117.

Any person or the Commission's Staff may, within 60 days after the issuance of the instant notice by the Commission, file pursuant to Rule 214 of the Commission's Procedural Rules (18 CFR 385.214) a motion to intervene or notice of intervention and, pursuant to § 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's Web site (http://www.ferc.gov) under the “e-Filing” link.

Philis J. Posey,
Acting Secretary.

[FR Doc. E7-5010 Filed 3-19-07; 8:45 am]

BILLING CODE 6717-01-P